DEPARTMENT OF TRANSPORTATION

Office of the Secretary

Notice of Applications for Certificates of Public Convenience and Necessity and Foreign Air Carrier Permits Filed Under Subpart B (Formerly Subpart Q) During the Week Ending April 26, 2014

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0063.

Date Filed: April 24, 2014.

Due Date for Answers, Conforming Applications, or Motion to Modify Scope: May 15, 2014.

Description: Application of Dreamjet SAS requesting exemption authority and a foreign air carrier permit to engage in: a. Foreign scheduled and charter air transportation of persons, property and mail from any point or points behind any Member State(s) of the European Union, via any point or points in any Member State and via intermediate points, to any point(s) in the United States and beyond; b. foreign scheduled and charter air transportation of persons, property and mail between any point or points in the United States and any point or points in any Member of the European Common Aviation Area; c. foreign scheduled and charter cargo air transportation between any point or points in the United States and any other point or points; d. other charters pursuant to the prior approval requirements; and e. scheduled and charter transportation consistent with any future, additional rights that may be granted to foreign air carriers of Member States of the European Union under the U.S.-E.U. Open Skies Agreement.

Cheryl F. Collins,
Dockets Manager, Docket Operations, Federal Register Liaison.

[FR Doc. 2014-10450 Filed 5-6-14; 8:45 am]

BILLING CODE 4910-9X-P